DEPARTMENT OF HEALTH AND HUMAN SERVICES

Medicare Program; Technical Review Panel on the Medicare Trustees Reports; Extension of Deadline for Nominations for Members

AGENCY: Assistant Secretary for Planning and Evaluation, HHS.

ACTION: Notice.

SUMMARY: This notice extends the deadline for nominations for members of the panel. The original deadline was April 9, 2004. The Medicare Board of Trustees has requested the Secretary of Health and Human Services (who is one of the Trustees) to establish a panel of technical experts to review the assumptions and methods underlying the Hospital Insurance (HI) and Supplementary Medical Insurance (SMI) Trust Fund annual reports.

EFFECTIVE DATE: Nominations for members will be considered if we receive them at the appropriate address, as provided below, before 5 p.m. on April 30, 2004.

ADDRESSES: Mail or deliver written nominations to the following address: Hubert H. Humphrey Building, Room 443-F.8, 200 Independence Avenue, SW., Washington, DC 20201. Documents may be e-mailed to andrew.cosgrove@hhs.gov.

FOR FURTHER INFORMATION CONTACT: Andrew Cosgrove, (202) 205-8681.

SUPPLEMENTARY INFORMATION:

I. Background

The Board of Trustees of the Medicare Trust Funds (the Hospital Insurance (HI) and Supplementary Medical Insurance (SMI) Trust Funds) report annually on the financial condition of the trust funds. The reports describe the trust funds' current and projected financial condition, within the next 10 years (the “short term”) and indefinitely into the future (the “long term”). The Medicare Board of Trustees has requested the Secretary of Health and Human Services (who is one of the Trustees) to establish a panel of technical experts to review the assumptions and methods underlying the HI and SMI annual reports. The panel will consist of up to 7 members, selected by the Secretary or a designee, and a Chair, who is appointed by the Secretary or a designee.

The panel will meet periodically throughout its existence, until it has completed its work. The work of the panel is technical in nature and will concentrate on the long term financing of the Medicare program. We will prepare the agenda for the panel's activities, which will set the items for discussion.

We are requesting nominations for members to serve on the panel. Panel members serve with compensation, and travel, meals, lodging, and related expenses will be reimbursed in accordance with standard government travel regulations. We have a special interest in ensuring that women, minorities, and the physically challenged are adequately represented on the panel and encourage nominations of qualified candidates from those groups.

II. Provisions of This Notice

A. Criteria for Nominees

Nominees should possess knowledge, experience, and expertise in areas such as the Medicare program, health economics, and actuarial science, or any other relevant expertise.

It is not necessary that any nominee possess expertise in all of the areas listed, but each should have significant, relevant experience in at least one area. Members of the panel will serve for the entire duration of the panel.

Any interested person may nominate one or more qualified individuals. Self-nominations will also be accepted. Each nomination must include a letter of nomination, a curriculum vita of the nominee, and a statement from the nominee that the nominee is willing to serve on the panel.

B. Signing of the Charter

The charter for the Technical Review Panel on the Medicare Trustees Reports was signed by the Secretary on March 11, 2004. The charter will terminate on March 11, 2006, unless renewed by the Secretary.

III. Copies of the Charter

You may obtain a copy of the Secretary's charter for the Technical Review Panel on Medicare Trustees Reports by submitting a request to Andrew Cosgrove, 200 Independence Ave., SW., Washington DC, 20201, (202) 205-8681 or contact Andrew Cosgrove via e-mail at andrew.cosgrove@hhs.gov.

Authority: 42 U.S.C. 217a; section 222 of the Public Health Services Act, as amended.

Michael J. O'Grady,
Assistant Secretary for Planning and Evaluation.

[FR Doc. 04-9176 Filed 4-21-04; 8:45 am]

BILLING CODE 4150-05-P